DEPARTMENT OF DEFENSE

Notice of the Defense Acquisition Performance Assessment Project Meetings

AGENCY: Department of Defense.

ACTION: Notice.

SUMMARY: Pursuant to the Federal Advisory Committee Act (FACA), Public Law 96-463, notice is hereby given that the Defense Acquisition Performance Assessment (DAPA) Project will hold meetings at the Anteon Conference Center, 1560 Wilson Blvd., Suite 400, Arlington, VA 22209, on the dates as stated below. In accordance with Federal Advisory Committee Act of 1972, as amended, it has been determined that designated Project meetings will be confidential and/or proprietary in nature pursuant to 5 U.S.C. 552b(c)(4) and will be closed to the public.

This notice is being published in less than the 15 calendar days required by law (August 10-11, 2005, meeting) due to administrative oversight in publishing.

Purpose: The Panel will meet on the dates as stated below. Any interested citizens are encouraged to attend the meetings open to the public, subject to the availability of space.

DATES: August 10, 2005, 9 a.m.-4 p.m. (open to public); August 11, 2005, 8 a.m.-5 p.m. (closed to public); August 17, 2005, 9 a.m.-3 p.m. (open to the public); August 18, 2005, 8 a.m.-5 p.m. (closed to the public); August 23, 2005, 9 a.m.-1 p.m. (open to public); August 24, 2005, 8 a.m.-5 p.m. (closed to public); September 8 & 9, 2005, 8 a.m.-5 p.m. (closed to public); September 15, 2005, 9 a.m.-4 p.m. (open to public); September 16, 2005, 8 a.m.-5 p.m. (closed to public).

Agenda (August 10, 2005, open session)

0900-0915 DAPA Director: Introduction of Military Services Project Officers and DAPA Status Report.

0915-0930 Panel Chairman: Acquisition Big “A” ~little “a”.

0930-1030 “Perspective from the Aerospace Assn”.

1030-1130 Views from Industry.

1130-1200 Q&A.

1200-1215 Break.

1215-1315 Working Lunch/Views from Industry (Cont).

1315-1330 Break.

1330-1545 Views from Industry (Cont).

1545-1600 Break.

1600-1630 Q&A.

1630-1700 DAPA Chair, Wrap-up.

Location: Anteon Conference Center, 1560 Wilson Blvd., Suite 400, Arlington VA 22209.

FOR FURTHER INFORMATION CONTACT: Any member of the public wishing further information concerning this meeting or wishing to submit comments must contact: Lt. Col. Rene Bergeron, Assistant Director of Staff, Defense Acquisition Performance Assessment Project, 1670 Air Force Pentagon, Rm 4E886, Washington, DC 20330-1670. Telephone: (703) 697-1361. DSN: 225-1361. Fax: (703) 693-4303. rene.bergeron@pentagon.af.mil.

Interested persons may submit a written statement for consideration by the Panel, preferably via e-mail. Statements to the Panel must be directed to the point of contact listed above, received no later than 5 p.m., September 7, 2005.

Dated: August 1, 2005.
Jeannette Owings-Ballard,
OSD Federal Register Liaison Officer, Department of Defense.

[FR Doc. 05-15455 Filed 8-1-05; 1:42 pm]

BILLING CODE 5001-06-P